DEPARTMENT OF HEALTH AND HUMAN SERVICES

Meeting of the National Biodefense Science Board

AGENCY: Department of Health and Human Services, Office of the Secretary.

ACTION: Notice.

SUMMARY: As stipulated by the Federal Advisory Committee Act, the U.S. Department of Health and Human Services is hereby giving notice that the National Biodefense Science Board (NBSB) will be holding a public meeting. The meeting is open to the public.

DATES: The NBSB will hold a public meeting on January 25, 2011 from 1:15 p.m. to 3 p.m. ET. The agenda is subject to change as priorities dictate.

ADDRESSES: Department of Health and Human Services; Hubert H. Humphrey Building, Room 800; 200 Independence Avenue, SW., Washington, DC 20201. To attend by teleconference, call 1-866-395-4129, pass-code “ASPR.” Please call 15 minutes prior to the beginning of the conference call to facilitate attendance. Pre-registration is required for public attendance. Individuals who wish to attend the meeting in person should send an email to NBSB@HHS.GOV with “NBSB Registration” in the subject line.

FOR FURTHER INFORMATION CONTACT: E-mail: NBSB@HHS.GOV.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary and/or the Assistant Secretary for Preparedness and Response on other matters related to public health emergency preparedness and response.

Background: A portion of this public meeting will be dedicated to swearing in the six new voting members who will replace the members whose 3-year terms expired on December 31, 2010. The Board will be asked to consider the various components of a science response to disasters. Subsequent agenda topics will be added as priorities dictate.

Availability of Materials: The meeting agenda and materials will be posted on the NBSB Web site at http://www.phe.gov/Preparedness/legal/boards/nbsb/Pages/default.aspx prior to the meeting.

Procedures for Providing Public Input: Any member of the public providing oral comments at the meeting must sign-in at the registration desk and provide his/her name, address, and affiliation. All written comments must be received prior to January 18, 2011 and should be sent by e-mail to NBSB@HHS.GOV with “NBSB Public Comment” as the subject line. Individuals who plan to attend and need special assistance, such as sign language interpretation or other reasonable accommodations, should e-mail NBSB@HHS.GOV.

Dated: January 7, 2011.
Nicole Lurie,
Assistant Secretary for Preparedness and Response.

[FR Doc. 2011-684 Filed 1-12-11; 8:45 am]

BILLING CODE 4150-37-P